DEPARTMENT OF HEALTH AND HUMAN SERVICES

Centers for Disease Control and Prevention

National Task Force on Fetal Alcohol Syndrome and Fetal Alcohol Effect: Cancellation of Meeting

This notice announces the cancellation of a previously announced meeting.

Federal Notice Citation of Previous Announcement: September 16, 2003 (Volume 68, Number 179) [Notices] [Page 54231] from the Federal Register online via GPO Access.

Previously Announced Times and Dates: 8:30 a.m.-4 p.m., November 6, 2003, 8:30 a.m.-12:30 p.m., November 7, 2003.

Change in the Meeting: This meeting has been canceled.

Contact Person for More Information: R. Louise Floyd, D.S.N., R.N., Executive Secretary, Fetal Alcohol Syndrome Prevention Team, Division on Birth Defects and Developmental Disabilities, National Center on Birth Defects and Developmental Disabilities, Centers for Disease Control and Prevention (CDC), 1600 Clifton Road, NE., Mailstop E-86, Atlanta, Georgia 30333, telephone 404/498-3923, fax 404/498-3040.

The Director, Management Analysis and Services Office, has been delegated the authority to sign Federal Register notices pertaining to announcements of meetings and other committee management activities for both the Centers for Disease Control and Prevention and the Agency for Toxic Substances and Disease Registry.

Dated: October 22, 2003.
Alvin Hall,
Director, Management Analysis and Services Office, Centers for Disease Control and Prevention.

[FR Doc. 03-27106 Filed 10-27-03; 8:45 am]

BILLING CODE 4163-18-P